DEPARTMENT OF EDUCATION

Applications for New Awards; Training of Interpreters for Individuals Who Are Deaf or Hard of Hearing and Individuals Who Are Deaf-Blind Program; Correction

Catalog of Federal Domestic Assistance (CFDA) Number: 84.160C.

AGENCY: Office of Special Education and Rehabilitative Services, Department of Education.

ACTION: Notice; correction.

SUMMARY: On July 25, 2016, we published in the Federal Register(81 FR 48409) a notice inviting applications (NIA) for new awards for fiscal year (FY) 2016 for the Training of Interpreters for Individuals Who Are Deaf or Hard of Hearing and Individuals Who Are Deaf-blind program. That notice incorrectly stated that match in the amount of 10 percent was required in order for applicants to meet the required cost match. This document corrects the error.

FOR FURTHER INFORMATION CONTACT: Kristen Rhinehart-Fernandez, U.S. Department of Education, 400 Maryland Avenue SW., Room 5062, Potomac Center Plaza, Washington, DC 20202-2800. Telephone: (202) 245-6103 or by email: Kristen.Rhinehart@ed.gov.

If you use a telecommunications device for the deaf (TDD) or a text telephone (TTY), call the Federal Relay Service, toll free, at 1-800-877-8339.

SUPPLEMENTARY INFORMATION: This document corrects the percentage of the required cost match. All other requirements and conditions stated in the NIA remain the same.

Corrections

In the Federal Register of July 25, 2016 (81 FR 48409), on page 48409, in the third column, we revise the section “2. Cost Sharing or Matching” to read as follows: “2. Cost Sharing or Matching: The Commissioner may award grants to public or private nonprofit agencies or organizations to pay part of the costs for interpreter training programs (section 302(f)(1)(A) of the Rehabilitation Act of 1973). Therefore, in order to be considered for funding, applicants must identify in the application budget and budget narrative a percentage of match towards the total cost of the project. It is up to the applicant to determine an appropriate percentage for the match contribution. To calculate match, applicants may use the match-calculator available at: https://rsa.ed.gov/match-calculator.cfm.”

Program Authority: 29 U.S.C. 772(f).

Accessible Format: Individuals with disabilities can obtain this document and a copy of the application package in an accessible format (e.g., braille, large print, audiotape, or compact disc) on request to the program contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Dated: August 9, 2016.
Sue Swenson,
Acting Assistant Secretary for Special Education and Rehabilitative Services.

[FR Doc. 2016-19269 Filed 8-11-16; 8:45 am]

BILLING CODE 4000-01-P